DEPARTMENT OF LABOR

Occupational Safety and Health Administration

[Docket No. OSHA-2010-0014]

Advisory Committee on Construction Safety and Health (ACCSH)

AGENCY: Occupational Safety and Health Administration (OSHA), Labor.

ACTION: Announcement of a meeting of the Advisory Committee on Construction Safety and Health (ACCSH) and ACCSH Work Group meetings.

SUMMARY: ACCSH will meet April 14 and 16, 2010, in Houston, TX. In conjunction with ACCSH's meeting, its Work Groups will meet April 12 and 13, 2010.

DATES: ACCSH: ACCSH will meet from 8 a.m. to noon, Wednesday, April 14, 2010, and from 8 a.m. to noon, Friday, April 16, 2010.

ACCSH Work Groups: ACCSH Work Groups will meet Monday, April 12, and Tuesday, April 13, 2010. (For Work Group meeting times, see the Work Group Schedule information in the SUPPLEMENTARY INFORMATION section of this notice.)

Submission of comments, requests to speak, speaker presentations, and requests for special accommodation: Comments, requests to address the ACCSH meeting, written or electronic speaker presentations, and requests for special accommodations for the ACCSH and ACCSH Work Group meetings must be submitted (postmarked, sent, transmitted) by April 2, 2010.

ADDRESSES: ACCSH and ACCSH Work Group: ACCSH and ACCSH Work Group meetings will be held at the Crowne Plaza Houston Downtown, 1700 Smith Street, Houston, TX 77002; telephone (713) 739-8800. Please check the hotel front desk or meeting board for room locations.

Submission of comments, requests to speak, and speaker presentations: Interested persons may submit comments, requests to address the ACCSH meeting, and speaker presentations using one of the following methods:

Electronically: You may submit materials, including attachments, electronically at http://www.regulations.gov, which is the Federal eRulemaking Portal. Follow the on-line instructions for submissions or comments.

Facsimile (Fax): If your submission, including attachments, does not exceed 10 pages, you may fax it to the OSHA Docket Office at (202) 693-1648.

Mail, hand delivery, express mail, messenger, or courier service: Submit three copies of your submissions to the OSHA Docket Office, Docket No. OSHA-2010-0014, Room N-2625, U.S. Department of Labor, 200 Constitution Avenue, NW., Washington, DC 20210; telephone (202) 693-2350 (TTY (877) 889-5627). Deliveries (hand deliveries, express mail, messenger, and courier service) are accepted during the Department of Labor's and OSHA Docket Office's normal business hours, 8:15 a.m.-4:45 p.m., e.t., weekdays.

Requests for special accommodations: Submit requests for special accommodations to Ms. Veneta Chatmon, OSHA, Office of Communications, Room N-3647, U.S. Department of Labor, 200 Constitution Avenue, NW., Washington, DC 20210; telephone (202) 693-1999; e-mail chatmon.veneta@dol.gov.

Instructions: All submissions, requests to speak, speaker presentations, and requests for special accommodations must include the Agency name and the docket number for this meeting (Docket No. OSHA-2010-0014). Because of security-related procedures, submissions by regular mail may experience significant delays. For information about security procedures for submitting materials by hand delivery, express mail, messenger, or courier service, contact the OSHA Docket Office.

Comments, speaker presentations and requests to speak, including personal information, are placed in the public docket without change and may be available online. Therefore, OSHA cautions you about submitting certain personal information such as social security numbers and birthdates. For further information on submitting comments, requests to speak, speaker presentations, and requests for public accommodation, see the Public Participation information in the SUPPLEMENTARY INFORMATION section.

To read or download documents in the public docket for this ACCSH meeting, go to Docket No. OSHA-2010-0014 at http://www.regulations.gov. All documents in the public docket are listed in the http://www.regulations.gov index; however, some documents (e.g., copyrighted material) are not available to read on line or download from that webpage. All documents, including copyrighted material, are available for inspection and copying at the OSHA Docket Office. Please contact the OSHA Docket Office for assistance making submissions to or obtaining materials from the public docket.

FOR FURTHER INFORMATION CONTACT: For press inquiries: Ms. Jennifer Ashley, OSHA, Office of Communications, Room N-3647, U.S. Department of Labor, 200 Constitution Avenue, NW., Washington, DC 20210; telephone (202) 693-1999.

For general information about ACCSH and ACCSH meetings: Mr. Michael Buchet, OSHA, Directorate of Construction, Room N-3468, U.S. Department of Labor, 200 Constitution Avenue, NW., Washington, DC 20210; telephone (202) 693-2020; e-mail: buchet.michael@dol.gov.

SUPPLEMENTARY INFORMATION:

ACCSH Meeting

ACCSH will meet Wednesday, April 14, 2010, and Friday, April 16, 2010, in Houston, TX. The meeting is open to the public.

ACCSH is authorized to advise the Secretary of Labor and Assistant Secretary of Labor for Occupational Safety and Health in the formulation of standards affecting the construction industry and on policy matters arising in the administration of the safety and health provisions of the Contract Work Hours and Safety Standards Act (Construction Safety Act) (40 U.S.C. 3701 et seq.) and the Occupational Safety and Health Act of 1970 (29 U.S.C. 651 et seq.). (See also 29 CFR 1911.10 and 1912.3).

The agenda topics for this meeting include:

• Welcome/Remarks from the Office of the Assistant Secretary;

• Remarks from the Directorate of Construction;

• Education and Training Directorate Overview;

• Cooperative and State Program Overview;

• Stimulus Funded Work Data Overview;

• NIOSH Construction Update;

• Work Group Reports, Work Group and Committee Administration; and

• Public Comment Period.

ACCSH meetings are transcribed and detailed minutes of the meetings are prepared. The transcript and minutes are placed in the public docket for the meeting. The docket also includes ACCSH Work Group reports, speaker presentations, comments, and other materials and requests submitted to the Committee.

ACCSH Work Group Meetings

In conjunction with the ACCSH meeting, the following ACCSH Work Groups will meet April 12-13, 2010. Check hotel front desk or meeting board for meeting room locations:

Monday, April 12

• Residential Fall Protection—Noon to 1:15 p.m.;

• Power Fastening Tools (Nailguns)—1:30 to 2:45 p.m.; and

• Silica and other construction health hazards—3 to 4:15 p.m.

Tuesday, April 13

• Prevention By Design—8 to 9:15 a.m.;

• Green Jobs in Construction—9:30 to 10:45 a.m.;

• Multilingual Issues in Construction—11 a.m. to 12:15 p.m.;

• Diversity—Women in Construction—1:15 to 2:30 p.m.; and

• Education and Training (OTI)—2:45 to 4 p.m.

For additional information on ACCSH Work Group meetings or participating in them, please contact Mr. Buchet at the address above or look on the ACCSH page on OSHA's webpage at http://www.osha.gov.

Public Participation

ACCSH Meetings and ACCSH Work Group Meetings: ACCSH and ACCSH Work Group meetings are open to the public. Individuals needing special accommodations for ACCSH or ACCSH Work Group meeting access please contact Ms. Chatmon (see ADDRESSES section).

Submission of written comments, requests to address ACCSH, speaker presentations, and requests for special accommodations: Interested persons may submit comments, requests to address ACCSH, presentations, and requests for special accommodations (1) electronically, (2) by fax, or (3) by hard copy (mail, hand delivery, express mail, messenger, and courier). All submissions must include the docket number for this ACCSH meeting (Docket No. OSHA-2010-0014). Individuals who want to address ACCSH at the meeting must submit their requests and written or electronic presentations (e.g., PowerPoint) by April 2, 2010. The request must state the amount of time desired to speak, the interest the presenter represents (e.g., businesses, organizations, affiliations), if any, and a brief outline of the presentation. PowerPoint presentations and other materials must be compatible with PowerPoint 2003 and other Microsoft Office 2003 formats.

Alternately at the ACCSH meeting, individuals may also request to address ACCSH by signing the public comment request sheet and listing the interests they represent, if any, and the topic(s) to be addressed. In addition, they must provide 20 hard copies of any materials, written or electronic, that they plan to present to ACCSH.

Requests to address the Committee may be granted at the ACCSH Chair's discretion and as time and circumstances permit.

Comments, requests to address ACCSH, and speaker presentations are included without change in the meeting record and may be made available online at http://www.regulations.gov. Therefore, OSHA cautions interested parties about submitting certain personal information such as birthdates and social security numbers.

Access to the record of ACCSH meetings, including Work Group reports: To read or download the record of this ACCSH meeting including transcript, minutes, Work Group reports and other submissions, go to Docket No. OSHA-2010-0014 at http://www.regulations.gov. The meeting record and all submissions for this meeting are listed in the http://www.regulations.gov index; however, some documents (e.g., copyrighted materials) are not publicly available through the webpage. The record and all submissions, including materials not available through http://www.regulations.gov are available for inspection and copying in the OSHA Docket Office (see ADDRESSES).

Authority and Signature

David Michaels, PhD MPH, Assistant Secretary of Labor for Occupational Safety and Health, directed the preparation of this notice under the authority granted by section 7 of the Occupational Safety and Health Act of 1970 (29 U.S.C. 656), section 107 of the Contract Work Hours and Safety Standards Act (Construction Safety Act) (40 U.S.C. 3704), the Federal Advisory Committee Act (5 U.S.C. App), 29 CFR Parts 1911 and 1912, 41 CFR Part 102, and Secretary of Labor's Order No. 5-2007 (72 FR 31160).

Signed at Washington, DC this 19 day of March 2010.
David Michaels,
Assistant Secretary of Labor for Occupational Safety and Health.

[FR Doc. 2010-6597 Filed 3-24-10; 8:45 am]

BILLING CODE 4510-26-P